INTERNATIONAL TRADE COMMISSION

[Inv. No. 337-TA-493]

Certain Zero-Mercury-Added Alkaline Batteries, Parts Thereof, and Products Containing Same; Notice of a Commission Determination Not To Review an Initial Determination Amending the Complaint and Notice of Investigation

AGENCY: International Trade Commission.

ACTION: Notice.

SUMMARY: Notice is hereby given that the U.S. International Trade Commission has determined not to review an initial determination (“ID”) of the presiding administrative law judge (“ALJ”) granting the joint motion of complainants to amend the complaint and notice of investigation.

FOR FURTHER INFORMATION CONTACT: Michael K. Haldenstein, Esq., Office of the General Counsel, U.S. International Trade Commission, telephone (202) 205-3041. Copies of the ALJ's ID and all other nonconfidential documents filed in connection with this investigation are or will be available for inspection during official business hours (8:45 a.m. to 5:15 p.m.) in the Office of the Secretary, U.S. International Trade Commission, 500 E Street, SW., Washington, DC 20436, telephone (202) 205-2000. Hearing-impaired persons are advised that information on this matter can be obtained by contacting the Commission's TDD terminal on (202) 205-1810. General information concerning the Commission may also be obtained by accessing its Internet server (http://www.usitc.gov). The public record for this investigation may be viewed on the Commission's electronic docket (EDIS) at http://edis.usitc.gov.

SUPPLEMENTARY INFORMATION: The Commission instituted this investigation on May 27, 2003, based on a complaint filed by complainants Energizer Holdings, Inc. and Eveready Battery Co., Inc., both of St. Louis, MO, 68 FR 32771 (2003). The complaint as amended alleges violations of section 337 in the importation into the United States, the sale for importation, and the sale within the United States after importation of certain zero-mercury-added alkaline batteries, parts thereof, and products containing same by reason of infringement of claims 1-12 of U.S. Patent No. 5,464,709. The complaint further alleges that an industry in the United States exists as required by subsection (a)(2) of section 337. The complainants requested that the Commission issue a general exclusion order and cease and desist orders. The Commission named as respondents 26 companies located in the United States, China, Indonesia, and Japan. Id. The ALJ has set September 2, 2004, as the target date for completion of the investigation.

The ALJ issued the subject ID on July 17, 2003. The ID grants the motion of complainants to terminate the investigation as to respondent Changhong Battery Co. on the basis of a consent motion and amend the complaint and notice of investigation to reflect this fact. The ALJ found that Changhong Battery Co. is a division of another respondent in the investigation, Sichuan Changhong Electric Co., Ltd., and therefore Changhong Battery Co. cannot be sued as a separate respondent. Accordingly, the ID amends the notice of investigation and complaint to reflect the fact that Changhong Battery Co. is not a separate respondent.

This action is taken under the authority of section 337 of the Tariff Act of 1930, as amended, 19 U.S.C. 1337, and Commission rule 210.42, 19 CFR 210.42.

By order of the Commission.
Issued: August 19, 2003.
Marilyn R. Abbott,
Secretary.

[FR Doc. 03-21729 Filed 8-25-03; 8:45 am]

BILLING CODE 7020-02-P